ENVIRONMENTAL PROTECTION AGENCY

40 CFR Part 300

[FRL-7822-7]

National Oil and Hazardous Substances Pollution Contingency Plan; National Priorities List

AGENCY: Environmental Protection Agency.

ACTION: Notice of deletion for the Dubose Oil Products Superfund Site from the National Priorities List.

SUMMARY: The Environmental Protection Agency (EPA) announces the deletion of the Dubose Oil Products Site in Cantonment, Florida, from the National Priorities List (NPL), which is Appendix B of the National Oil and Hazardous Substances Pollution Contingency Plan (NCP). The EPA requests comments on this deletion. The EPA and the State have determined that all appropriate Fund-financed responses under the Comprehensive Environmental Response, Compensation and Liability Act (CERCLA), as amended, have been implemented and that no further cleanup by responsible parties is appropriate. Moreover, the EPA and the State have determined that remedial actions conducted at the site to date have been protective of public health, welfare, and the environment. However, this deletion does not preclude future actions under Superfund.

DATES: Effective October 1, 2004.

FOR FURTHER INFORMATION CONTACT: Caroline Robinson, Remedial Project Manager, U.S. Environmental Protection Agency, Region 4, South Site Management Branch, 61 Forsyth Street, SW., Atlanta, Georgia 30365, (404) 562-8930.

SUPPLEMENTARY INFORMATION: The site to be deleted from the NPL is: Dubose Oil Products Superfund Site, Cantonment, Florida.

A Notice of Intent to Delete for this site was published August 4, 2004, 69 FR 47072. The closing date for comments on the notice of Intent to Delete was September 3, 2004. The EPA received no comments.

The EPA identifies sites that appear to present a significant risk to public health, welfare, or the environment and it maintains the NPL as the list of those sites. Any site deleted from the NPL remains eligible for Fund-financed remedial actions in the unlikely event that conditions at the site warrant such action in the future. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous waste, Hazardous substances, Intergovernmental relations, Penalties, Reporting and recordkeeping requirements, Superfund, Water pollution control, Water supply.

Dated: September 23, 2004.
J. I. Palmer, Jr.,
Regional Administrator, Region 4.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR 1991 Comp., p 351; E.O. 12580, 52 FR 2923; 3 CFR, 1987 Comp., p. 193.

Appendix B—[Amended]

2. Table 1 of Appendix B to Part 300 is amended by removing the site Dubose Oil Products Superfund Site, Cantonment, Florida.

[FR Doc. 04-22083 Filed 9-30-04; 8:45 am]

BILLING CODE 6560-50-U